DEPARTMENT OF DEFENSE

Department of the Army

Availability for Non-Exclusive, Exclusive, or Partially Exclusive Licensing of U.S. Provisional Patent Application Concerning Method and Kit for Detecting Adenovirus Serotype 14 Virus

AGENCY: Department of the Army, DoD.

ACTION: Notice.

SUMMARY: In accordance with 37 CFR 404.6 and 404.7, announcement is made of the availability for licensing of the invention set forth in U.S. Provisional Patent Application Serial No. 61/058,598 entitled “Method and Kit for Detecting Adenovirus Serotype 14 Virus,” filed June 4, 2008. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Adenovirus type 14 (Ad14) is an emerging pathogen that can cause life threatening diseases and large outbreaks. To improve the capability of the laboratory for diagnosing AD14 infection and to prepare for possible outbreak, a real-time PCR assay targeting a unique sequence in the hexon region of the adenovirus genome is disclosed.

Brenda S. Bowen,
Army Federal Register Liaison Officer.

[FR Doc. E8-24488 Filed 10-14-08; 8:45 am]

BILLING CODE 3710-08-P